DEPARTMENT OF COMMERCE

National Oceanic and Atmospheric Administration

[RTID 0648-XA035]

Pacific Fishery Management Council; Public Meetings

AGENCY: National Marine Fisheries Service, National Oceanic and Atmospheric Administration, Commerce.

ACTION: Notice of public meetings.

SUMMARY: The Pacific Fishery Management Council (Pacific Council) and its advisory entities will hold public meetings.

DATES: The Pacific Council and its advisory entities will meet March 3-9, 2020. The Pacific Council meeting will begin on Wednesday, March 4, 2020 at 8 a.m. Pacific Standard Time (PST), reconvening at 8 a.m. each day through Monday, March 9, 2020. All meetings are open to the public, except a closed session will be held from 8 a.m. to 9 a.m., Wednesday, March 4 to address litigation and personnel matters. The Pacific Council will meet as late as necessary each day to complete its scheduled business.

ADDRESSES:

Meeting address: Meetings of the Pacific Council and its advisory entities will be held at the Doubletree by Hilton Sonoma, One Doubletree Drive, Rohnert Park, CA; telephone: (707) 584-5466.

Council address: Pacific Fishery Management Council, 7700 NE Ambassador Place, Suite 101, Portland, OR 97220. Instructions for attending the meeting via live stream broadcast are given under SUPPLEMENTARY INFORMATION, below.

FOR FURTHER INFORMATION CONTACT: Mr. Chuck Tracy, Executive Director; telephone: (503) 820-2280 or (866) 806-7204 toll-free; or access the Pacific Council website, http://www.pcouncil.org for the current meeting location, proposed agenda, and meeting briefing materials.

SUPPLEMENTARY INFORMATION: The March 3-9, 2020 meeting of the Pacific Council will be streamed live on the internet. The broadcasts begin initially at 9 a.m. PST Wednesday, March 4, 2020 and continue at 8 a.m. daily through Monday, March 9, 2020. Broadcasts end when business for the day is complete. Only the audio portion and presentations displayed on the screen at the Pacific Council meeting will be broadcast. The audio portion is listen-only; you will be unable to speak to the Pacific Council via the broadcast. To access the meeting online, please use the following link: http://www.gotomeeting.com/online/webinar/join-webinar and enter the March Webinar ID, 752-427-619, and your email address. You can attend the webinar online using a computer, tablet, or smart phone, using the GoToMeeting application. It is recommended that you use a computer headset to listen to the meeting, but you may use your telephone for the audio-only portion of the meeting. The audio portion may be attended using a telephone by dialing the toll number 1-562-247-8422 (not a toll-free number), audio access code 771-083-667, and entering the audio pin shown after joining the webinar.

The following items are on the Pacific Council agenda, but not necessarily in this order. Agenda items noted as “Final Action” refer to actions requiring the Council to transmit a proposed fishery management plan, proposed plan amendment, or proposed regulations to the U.S. Secretary of Commerce, under Sections 304 or 305 of the Magnuson-Stevens Fishery Conservation and Management Act. Additional detail on agenda items, Council action, advisory entity meeting times, and meeting rooms are described in Agenda Item A.4, Proposed Council Meeting Agenda, and will be in the advance November 2019 briefing materials and posted on the Pacific Council website at www.pcouncil.org no later than Monday, February 17, 2020.

A. Call to Order

1. Opening Remarks

2. Roll Call

3. Executive Director's Report

4. Approve Agenda

B. Open Comment Period

1. Comments on Non-Agenda Items

C. Administrative Matters

1. Report of the Office of National Marine Sanctuaries

2. Marine Planning Update

3. Approval of Council Meeting Record

4. Membership Appointments and Council Operating Procedures

5. Future Council Meeting Agenda and Workload Planning

D. Habitat

1. Current Habitat Issues

E. Salmon Management

1. National Marine Fisheries Service (NMFS) Report

2. Willapa Bay Coho Forecast Methodology Review—Final Action

3. Southern Resident Killer Whale Endangered Species Act Consultation

4. Review of 2019 Fisheries and Summary of 2020 Stock Forecasts

5. Identify Management Objectives and Preliminary Definition of 2020 Management Activities

6. Recommendations for 2020 Management Alternative Analysis

7. Further Direction for 2020 Management Alternatives

8. Further Direction of 2020 Management Alternatives

9. Adopt 2020 Management Alternatives for Public Review

10. Appoint Salmon Hearing Officers

F. Pacific Halibut Management

1. Annual International Pacific Halibut Commission Meeting Report

2. Incidental Catch Recommendations: Options for Salmon Troll and Final Recommendations for Fixed Gear Sablefish Fisheries

3. Transition of Area 2A Fishery Management

G. Ecosystem Management

1. California Current Ecosystem and Integrated Ecosystem Assessment (IEA) Report and Science Review Topics

2. Fishery Ecosystem Plan (FEP) Five-Year Review—Final Action

3. Climate and Communities Initiative Workshop Report

H. Groundfish Management

1. NMFS Report

2 Initial Stock Assessment Plan and Terms of Reference

3. Update on Exempted Fishing Permits (EFPs) for 2021-22

4. Update on 2021-22 Harvest Specifications and Management Measures

5. Inseason Adjustments Including Shorebased Carryover—Final Action

I. Highly Migratory Species Management

1. NMFS Report

2. Review of Essential Fish Habitat—Scoping

3. International Management Activities

4. Drift Gillnet Fishery Hard Caps Update

Advisory Body Agendas

Advisory body agendas will include discussions of relevant issues that are on the Pacific Council agenda for this meeting, and may also include issues that may be relevant to future Council meetings. Proposed advisory body agendas for this meeting will be available on the Pacific Council website http://www.pcouncil.org/council-operations/council-meetings/current-briefing-book/ no later than Monday, February 17, 2020.

Schedule of Ancillary Meetings

Day 1—Tuesday, March 3, 2020

Habitat Committee 8 a.m.

Scientific and Statistical Committee 8 a.m.

Salmon Advisory Subpanel 1 p.m.

Day 2—Wednesday, March 4, 2020

California State Delegation 7 a.m.

Oregon State Delegation 7 a.m.

Washington State Delegation 7 a.m.

Ecosystem Advisory Subpanel 8 a.m.

Ecosystem Workgroup 8 a.m.

Enforcement Consultants 8 a.m.

Salmon Advisory Subpanel 8 a.m.

Salmon Technical Team 8 a.m.

Scientific and Statistical Committee 8 a.m.

Tribal Policy Group As Necessary

Tribal and Washington Technical Group As Necessary

Day 3—Thursday, March 5, 2020

California State Delegation 7 a.m.

Oregon State Delegation 7 a.m.

Washington State Delegation 7 a.m.

Ecosystem Advisory Subpanel 8 a.m.

Ecosystem Workgroup 8 a.m.

Groundfish Advisory Subpanel 8 a.m.

Groundfish Management Team 8 a.m.

Salmon Advisory Subpanel 8 a.m.

Salmon Technical Team 8 a.m.

Enforcement Consultants As Necessary

Tribal Policy Group As Necessary

Tribal and Washington Technical Group As Necessary

Day 4—Friday, March 6, 2020

California State Delegation 7 a.m.

Oregon State Delegation 7 a.m.

Washington State Delegation 7 a.m.

Ecosystem Advisory Subpanel 8 a.m.

Ecosystem Workgroup 8 a.m.

Groundfish Advisory Subpanel 8 a.m.

Groundfish Management Team 8 a.m.

Salmon Advisory Subpanel 8 a.m.

Salmon Technical Team 8 a.m.

Enforcement Consultants As Necessary

Tribal Policy Group As Necessary

Tribal and Washington Technical Group As Necessary

Day 5—Saturday, March 7, 2020

California State Delegation 7 a.m.

Oregon State Delegation 7 a.m.

Washington State Delegation 7 a.m.

Groundfish Advisory Subpanel 8 a.m.

Groundfish Management Team 8 a.m.

Highly Migratory Species Advisory Subpanel 8 a.m.

Highly Migratory Species Management Team 8 a.m.

Salmon Advisory Subpanel 8 a.m.

Salmon Technical Team 8 a.m.

Enforcement Consultants As Necessary

Tribal Policy Group As Necessary

Tribal and Washington Technical Group As Necessary

Day 6—Sunday, March 8, 2020

California State Delegation 7 a.m.

Oregon State Delegation 7 a.m.

Washington State Delegation 7 a.m.

Groundfish Advisory Subpanel 8 a.m.

Groundfish Management Team 8 a.m.

Highly Migratory Species Advisory Subpanel 8 a.m.

Highly Migratory Species Management Team 8 a.m.

Salmon Advisory Subpanel 8 a.m.

Salmon Technical Team 8 a.m.

Enforcement Consultants As Necessary

Tribal Policy Group As Necessary

Tribal and Washington Technical Group As Necessary

Day 7—Monday, March 9, 2020

California State Delegation 7 a.m.

Oregon State Delegation 7 a.m.

Washington State Delegation 7 a.m.

Salmon Technical Team 8 a.m.

Although non-emergency issues not contained in this agenda may come before the Pacific Council for discussion, those issues may not be the subject of formal Council action during these meetings. Council action will be restricted to those issues specifically listed in this notice and any issues arising after publication of this notice that require emergency action under Section 305(c) of the Magnuson-Stevens Fishery Conservation and Management Act, provided the public has been notified of the Pacific Council's intent to take final action to address the emergency.

Special Accommodations

These meetings are physically accessible to people with disabilities. Requests for sign language interpretation or other auxiliary aids should be directed to Mr. Kris Kleinschmidt at (503) 820-2412 at least 10 business days prior to the meeting date.

Authority: 16 U.S.C. 1801 et seq.

Dated: February 7, 2020.
Tracey L. Thompson,
Acting Deputy Director, Office of Sustainable Fisheries, National Marine Fisheries Service.

[FR Doc. 2020-02770 Filed 2-11-20; 8:45 am]

BILLING CODE 3510-22-P